DEPARTMENT OF LABOR

Employment and Training Administration

[TA-W-85,753, TA-W-85,753A]

U.S. Steel Tubular Products, Inc., Tubular Processing Houston Operations, a Subsidiary of United States Steel Corporation, Houston, Texas; U.S. Steel Oilwell Services, LLC, Offshore Operations—Houston, Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on February 10, 2015, applicable to workers and former workers of U.S. Steel Tubular Products, Inc., Tubular Processing Houston Operations, a subsidiary of United States Steel Corporation, Houston, Texas (subject firm). Workers of the subject firm are engaged in activities related to the production of steel tubular products.

Information obtained from United States Steel Corporation reveals that U.S. Steel Oilwell Services, LLC, Offshore Operations—Houston, Houston, Texas (TA-W-85,753A) operates in conjunction with the subject firm.

Based on this finding, the Department is amending this certification to clarify that workers at U.S. Steel Oilwell Services, LLC, Offshore Operations—Houston, Houston, Texas are included. The amended notice applicable to TA-W-85,753 is hereby issued as follows:

All workers of U.S. Steel Tubular Products, Inc., Tubular Processing Houston Operations, a subsidiary of United States Steel Corporation, Houston, Texas (TA-W-85,753) and U.S. Steel Oilwell Services, LLC, Offshore Operations—Houston, Houston, Texas (TA-W-85,753A), who became totally or partially separated from employment on or after January 6, 2014 through February 10, 2017, are eligible to apply for adjustment assistance under Chapter 2 of Title II of the Trade Act of 1974, as amended, and are also eligible to apply for alternative trade adjustment assistance under Section 246 of the Trade Act of 1974, as amended.

Signed in Washington, DC, this 22nd day of May 2015.
Del Min Amy Chen,
Certifying Officer, Office of Trade Adjustment Assistance.

[FR Doc. 2015-15960 Filed 6-29-15; 8:45 am]

BILLING CODE 4510-FN-P